DEPARTMENT OF TRANSPORTATION

Federal Aviation Administration

Notice of Availability of the Record of Decision on the Potomac Consolidated Terminal Radar Approach Control (TRACON) Airspace Redesign

AGENCY: Federal Aviation Administration, DOT.

ACTION: Notice of Availability of the record of Decision for the Potomac Consolidated TRACON Airspace Redesign.

SUMMARY: In accordance with the National Environmental Policy Act of 1969 and FAA Order 1050.1D, Policies and Procedures for Considering Environmental Impacts, the Federal Aviation Administration (FAA) has made a final determination to modify aircraft routes, altitudes and air traffic control procedures used in a 23,000 square mile area around Washington, DC. These procedures relate to aircraft arriving and departing from Andrews Air force Base (ADW), Baltimore-Washington International Airport (BWI), Dulles International Airport (IAD), Reagan Washington National Airport (DCA) and other smaller area airports. The FAA's determinations on the airspace redesign are contained in the Record of Decision (ROD) dated May 1, 2003.

FOR FURTHER INFORMATION CONTACT: Mr. William Carver, Support Manager, Potomac TRACON, (540) 349-7520, E-mail: william.carver@faa.gov.

SUPPLEMENTARY INFORMATION: As discussed in the ROD, the revised aircraft routes, altitudes and procedures will be established in a manner consistent with the alternative “Existing Peripheral Airspace Ingress/Egress Transfer Points with New Internal Airspace Design,” Alternative 2, identified as the preferred alternative in the Final Environmental Impact Statement (FEIS), Potomac Consolidated TRACON (PCT) Airspace Redesign, prepared by the FAA and dated December 2002. The FAA issued the FEIS on January 10, 2003.

The ROD is available for review on the Internet at http://www.faa.gov/ats/potomac.

Dated: May 8, 2003.
Barbara Jo Cogliandro,
Air Traffic Manager, Potomac TRACON.

[FR Doc. 03-12044 Filed 5-14-03; 8:45 am]

BILLING CODE 4910-13-M